DEPARTMENT OF AGRICULTURE

Forest Service

Eyerly Fire Salvage, Deschutes National Forest, Jefferson County, OR

AGENCY: Forest Service, USDA.

ACTION: Notice of intent to prepare an environmental impact statement.

SUMMARY: The USDA, Forest Service, will prepare an environmental impact statement (EIS) on a proposed action to salvage dead and severely damaged trees, utilize small diameter forest products resulting and to plant trees to assist in the restoration of the area burned in the Eyerly fire on the Sisters Ranger District of the Deschutes National Forest. The purpose of the proposed action is to make burned commercial timber and small diameter trees available to the economy and community, and to facilitate development of a long term sustainable forest through reforestation. The Eyerly Fire, located about 20 miles north of Sisters, Oregon, burned about 25,573 acres. Approximately 76 percent (17,871 acres) of the fire area is on the Deschutes National Forest. The alternatives will include the proposed action, no action, and any additional alternatives that respond to issues generated during the scoping process. The proposed action will require a non-significant amendment to the Deschutes National Forest Land and Resource Management Plan (Forest Plan) to substitute other old growth stands for two old growth areas that were burned. The proposed salvage and reforestation activities are among several actions being considered to facilitate recovery and restoration of the area burned in the Eyerly Fire. Additional projects intended to aid in restoration of damage caused by the Eyerly Fire are planned, and will be analyzed under separate environmental analysis efforts. Such restoration projects include: Road obliteration and closure to reduce sediment delivery to stream channels; planting bitterbrush to increase wildlife forage; tree planting in areas outside of salvage units; replacement or repair of wildlife guzzlers damaged in the fire to provide water sources for wildlife; in-stream additions of large wood or rock placement to improve fish habitat; re-vegetation of burned riparian area; and hazard tree removal from Perry South Campground. The agency will give notice of the full environmental analysis and decision making process so interested and affected people may be able to participate and contribute in the final decision.

DATES: Comments concerning the scope of the analysis must be received by March 31, 2003.

ADDRESSES: Send written comments to Bill Anthony, District Ranger, Sisters Ranger District, P.O. Box 249, Sisters, Oregon 97759.

FOR FURTHER INFORMATION CONTACT: Dave Owens, Project Leader, Ochoco National Forest, P.O. Box 490, Prineville, Oregon 97754, phone 541-416-6425. E-mail deowens@fs.fed.us.

SUPPLEMENTARY INFORMATION: Proposed Action. The proposed action is for salvage of commercial timber on approximately 4,388 acres and utilization of small diameter forest products such as posts, rails, house logs, chips, or firewood on approximately 622 acres on the Sisters Ranger District. Reforestation of the same areas is also proposed. The intensity of the Eyerly Fire varied and resulted in some areas of no damage while other areas experienced complete stand mortality. The volume of burned timber ranges from 1 to 15 thousand board feet per acre. Estimated total volume of fire-killed and severely damaged timber is in excess of 100 million board feet. The proposed salvage harvest would yield approximately 23 million board feet.

The purpose of the salvage is to recover the economic value of merchantable timber from trees that were killed or severely damaged by the Eyerly Fire. The design of salvage operations will consider the current condition, sensitivity and long term restoration of the landscape. Salvage logging would be conducted by a combination of ground-based tractor, skyline and helicopter yarding. Dead and severely damaged trees in excess of wildlife habitat and soil protection needs would be salvaged and generally include trees greater than 12 inches diameter. Dead and severely damaged trees smaller than 12 inches diameter unsuited for commercial timber are proposed for utilization as posts, rails, house logs, chips or firewood on about 622 acres. The proposed action includes construction of short temporary roads, totaling less than 2 miles, to provide access. Timber harvest residues would be treated by a variety of methods including lopping and scattering, burning in place, piling and burning, or yarding tops to landings to be burned. To reduce value loss due to wood deterioration the timber would be offered for sale in the Fall 2003.

Areas treated would be located outside of Riparian Reserves and Riparian Habitat Conservation Areas (RHCA). Riparian Reserve and RHCA widths vary by stream class. Dead trees (snags) and down wood would be left at levels consistent with Forest Plan standards. No salvage or small diameter utilization is proposed within the roadless area within the project area.

Purpose and Need for Action. The purpose of the salvage and tree planting is to recover the economic and social value of merchantable timber from trees that were killed or severely damaged by the Eyerly Fire, and to facilitate development of a long term sustainable forest through reforestation.

Scoping Process. Public participation will be sought at several points during the analysis, including listing of this project in the Winter 2002 and subsequent issues of the Ochoco and Deschutes National Forest's Schedule of Proposed Activities; letters to agencies, organizations, tribes, and individuals who have previously indicated their interest in such activities. Scoping is an integral part of environmental analysis. Scoping includes refining the proposed action, determining the responsible official and lead and cooperating agencies, identifying preliminary issues, and identifying interested and affected persons. The results of scoping are used to identify public involvement methods, refine issues, select an interdisciplinary team, establish analysis criteria, and explore possible alternatives and their probable environmental effects.

Preliminary Issues. Preliminary issues identified include: Snag and downed wood habitat; big game habitat; disturbance of cultural resources; potential for noxious weed invasion and expansion; effects of proposed activities on soil productivity and erosion; effects of proposed activities on water quality and fish habitat including Bull Trout populations; effects of the proposed activities on late successional reserves and old growth habitat; potential loss of commercial timber value; economic viability of timber salvage; effects of the proposed activities on potential wildfire intensity; and effects on public access, safety and use of the area.

Public comments about this proposal are requested in order to assist in properly scoping issues, determining how to best manage the resources, and fully analyzing environmental effects. Comments received to this notice, including names and addresses of those who comment, will be considered part of the public record on this proposed action and will be available for public inspection. Comments submitted anonymously will be accepted and considered; however, those who submit anonymous comments will not have standing to appeal the subsequent decisions under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review. A draft EIS will be filed with the Environmental Protection Agency (EPA) and available for public review by May 2003. The EPA will publish a Notice of Availability (NOA) of the draft EIS in the Federal Register. The comment period on the draft EIS will be 45 days from the date the NOA appears in the Federal Register.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available October 2003. In the final EIS, the Forest Service is required to respond to substantive comments received during the comment period for the draft EIS. The Forest Service is the lead agency and the responsible official is the Forest Supervisor, Deshutes National Forest. The responsible official will decide where, and whether or not to salvage timber. The responsible official will also decide how to mitigate impacts of these actions and will determine when and how monitoring of effects will take place. The Eyerly Fire Salvage decision and the reasons for the decision will be documented in the record of decision. That decision will be subject to Forest Service Appeal Regulations (36 CFR part 215).

Dated: February 26, 2003.
Kevin D. Martin,
Deputy Forest Supervisor, Deschutes National Forest.

[FR Doc. 03-5245 Filed 03-5-03; 8:45 am]

BILLING CODE 3410-11-M